ENVIRONMENTAL PROTECTION AGENCY

[ER-FRL-8589-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in the Federal Register dated April 6, 2008 (97 FR 27647).

Draft EISs

EIS No. 20080380, ERP No. D-AFS-K65348-CA, Tahoe National Forest Motorized Travel Management, Implementation, Sierra Nevada Mountains, Nevada, Placer, Plumas, Sierra and Yuba Counties, CA.

Summary: EPA expressed environmental concerns about the continued use of routes in areas containing Naturally Occurring Asbestos and impacts to water quality, meadows, and riparian areas. To address these concerns, EPA recommends that the final EIS address current roads and trails with known impacts, eliminating the addition of routes on land “most likely” to contain naturally occurring asbestos, and detail on meeting TMDL requirements and monitoring and enforcement commitments. Rating EC2.

Final EISs

EIS No. 20080420, ERP No. F-BLM-K08066-CA, Sunrise Powerlink Transmission Line Project, Proposed Land Use Plan Amendment, Construction and Operation of a New 91-mile 500 kilovolt (kV) Electric Transmission Line from Imperial Valley Substation (in Imperial Co. near the City of El Centro) to a New Central East Substation (in Central San Diego County) Imperial and San Diego Counties, CA.

Summary: EPA continues to have environmental concerns about adverse impacts to water resources, air quality and the disclosure of costs and benefits associated with the various alternatives.

EIS No. 20080467, ERP No. F-AFS-L65499-WA, The Summit at Snoqualmie Master Development Plan (MPD), Proposal to Ensure Long-Term Economic Viability, Mt. Baker-Snoqualmie/Okanogan-Wenatchee National Forests, King and Kittitas Counties, WA.

Summary: The Final EIS adequately addresses EPA's environmental concerns about wetlands, water quality, and habitat conductively with mitigation and avoidance of significant impacts. Additionally, the Final EIS presents metrics for restoration outcomes and emphasizes the importance of meeting monitoring requirements. EPA has no concerns about the implementation of the proposed project.

EIS No. 20080471, ERP No. F-AFS-J65518-SD, South Project Area, Proposes Multiple Resource Management Actions, Selected Alternative 3, Hell Canyon Ranger District, Black Hills National Forest, Custer County, SD.

Summary: No formal comment letter was sent to the preparing agency.

EIS No. 20080512, ERP No. F-USN-A11080-00, Atlantic Fleet Active Sonar Training Program, To Provide Mid- and High-Frequency Active Sonar Technology and the Improved Extended Echo Ranging (IEER) System during Atlantic Fleet Training Exercises, Along the East Coast of the United States (U.S.) and in the Gulf of Mexico.

Summary: No formal comment letter was sent to the preparing agency.

Dated: January 6, 2009.
Robert W. Hargrove,
Director, NEPA Compliance Division, Office of Federal Activities.

[FR Doc. E9-211 Filed 1-8-09; 8:45 am]

BILLING CODE 6560-50-P